DEPARTMENT OF TRANSPORTATION

Federal Aviation Administration

14 CFR Part 39

[Docket No. 2001-SW-24-AD; Amendment 39-12407; AD 2001-17-16]

RIN 2120-AA64

Airworthiness Directives; Agusta S.p.A. Model A109E Helicopters

AGENCY: Federal Aviation Administration, DOT.

ACTION: Final rule; request for comments.

SUMMARY: This amendment supersedes an existing airworthiness directive (AD) for Agusta S.p.A. (Agusta) Model A109E helicopters that currently requires visually checking and inspecting each tail rotor blade (blade) for a crack at specified intervals. That AD also requires replacing any cracked blade with an airworthy blade. This amendment contains the same requirements but adds another blade to the applicability. This amendment is necessary because the added blade is manufactured using the same process as the blade that failed. The actions specified by this AD are intended to prevent failure of a blade and subsequent loss of control of the helicopter.

DATES: Effective September 13, 2001.

The incorporation by reference of certain publications listed in the regulations is approved by the Director of the Federal Register as of September 13, 2001.

Comments for inclusion in the Rules Docket must be received on or before October 29, 2001.

ADDRESSES: Submit comments in triplicate to the Federal Aviation Administration (FAA), Office of the Regional Counsel, Southwest Region, Attention: Rules Docket No. 2001-SW-24-AD, 2601 Meacham Blvd., Room 663, Fort Worth, Texas 76137. You may also send comments electronically to the Rules Docket at the following address: 9-asw-adcomments@faa.gov.

The service information referenced in this AD may be obtained from Agusta, 21017 Cascina Costa di Samarate (VA) Italy, Via Giovanni Agusta 520, telephone 39 (0331) 229111, fax 39 (0331) 229605-222595. This information may be examined at the FAA, Office of the Regional Counsel, Southwest Region, 2601 Meacham Blvd., Room 663, Fort Worth, Texas 76137; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: On February 2, 2001, the FAA issued AD 2000-25-54, Amendment 39-12106 (66 FR 10185, February 14, 2001), to require visually checking and subsequently inspecting each blade, P/N 109-8132-01-109, for a crack at specified intervals. That AD also requires replacing any cracked blade with an airworthy blade. That action was prompted by five reports of cracked blades. That condition, if not corrected, could result in failure of a blade and subsequent loss of control of the helicopter.

Since the issuance of that AD, the Ente Nazionale per l'Aviazione Civile (ENAC), the airworthiness authority for Italy, notified the FAA that an unsafe condition may exist on Agusta Model A109E helicopters with blades, P/N 109-8132-01-107, that are not affected by AD 2000-25-54. The ENAC advises inspecting certain additional blades for a crack.

Agusta has issued Alert Bollettino Tecnico No. 109EP-14, Revision A, dated March 19, 2001 (ABT), which specifies certain inspections for a crack in blades, part number (P/N) 109-8132-01-109 and -107. Agusta included blade, P/N 109-8132-01-107, in its technical bulletin because the blade is manufactured using the same process as used for P/N 109-8132-01-109. Cracks in blade, P/N 109-8132-01-109, were discovered during maintenance and by a pilot due to an increase of vibratory level, which did not affect the operation of the tail rotor. Agusta is investigating the reason for these cracks, and the instructions in this ABT are given as a precautionary measure. ENAC issued AD 2001-094, dated March 22, 2001, requiring compliance with the ABT.

This helicopter model is manufactured in Italy and is typed certificated for operation in the United States under the provisions of 14 CFR 21.29 and the applicable bilateral agreement. Pursuant to the applicable bilateral agreement, the ENAC has kept the FAA informed of the situation described above. The FAA has examined the findings of the ENAC, reviewed all available information, and determined that AD action is necessary for products of this type design that are certificated for operation in the United States.

Since we have identified an unsafe condition that is likely to exist or develop on other Agusta Model A109E helicopters of the same type design registered in the United States, this AD supersedes AD 2000-25-54. This AD contains the same requirements as AD 2000-25-54 but adds blade, P/N 109-8132-01-107, to the applicability. Therefore, the AD requires the following for each blade, P/N 109-8132-01-107, and -109:

• Before each start of the engines, visually check both sides of each blade for a crack.

• Within 10 hours time-in-service (TIS) and at specified intervals or before the next flight after any abnormal tail rotor vibration, inspect each blade for a crack using a 5-power or higher magnifying glass.

• Within 25 hours TIS and at specified intervals, dye-penetrant inspect each blade for a crack.

• Replace each cracked blade with an airworthy blade before further flight.

The actions must be accomplished in accordance with the ABT described previously. The short compliance time involved is required because the previously described critical unsafe condition can adversely affect the controllability and structural integrity of the helicopter. Therefore, the actions previously listed are required at frequent compliance intervals, and this AD must be issued immediately.

An owner/operator (pilot) may perform the visual check required by this AD and must enter compliance with paragraph (a) of this AD into the aircraft maintenance records in accordance with 14 CFR 43.11 and 91.417(a)(2)(v). This AD allows a pilot to perform this check because it involves only a visual check for a crack in the blade and can be performed equally well by a pilot or a mechanic.

Since a situation exists that requires the immediate adoption of this regulation, it is found that notice and opportunity for prior public comment hereon are impracticable, and that good cause exists for making this amendment effective in less than 30 days.

The FAA estimates that 29 helicopters will be affected by this AD, that it will take approximately ½ work hour to conduct the 10-hour interval inspection, 1 work hour to conduct the dye-penetrant inspection, and 1 work hour to replace each blade, and that the average labor rate is $60 per work hour. Consumable materials are expected to cost $35 per helicopter. Required parts will cost approximately $10,000 per helicopter if both blades are replaced. Assuming each helicopter flies 200 hours in 6 months, the 10-hour inspection is accomplished 20 times, and the dye-penetrant inspection is accomplished 8 times, and both blades are replaced once, the total cost impact of the AD on U.S. operators is estimated to be $325,815.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-24-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. Section 39.13 is amended by removing Amendment 39-12106 (66 FR 10185, February 14, 2001) and by adding a new airworthiness directive (AD), Amendment 39-12407, to read as follows:

2001-17-16 Agusta S.p.A.: Amendment 39-12407. Docket No. 2001-SW-24-AD. Supersedes AD 2000-25-54, Amendment 39-12106, Docket No. 2000-SW-65-AD.

Applicability: Model A109E helicopters, with tail rotor blade (blade), part number (P/N) 109-8132-01-107 or -109, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent failure of a blade and subsequent loss of control of the helicopter, accomplish the following:

(a) Before each start of the engines, visually check both sides of each blade for a crack in accordance with Figure 1 of this AD for blade, P/N 109-8132-01-107, or Figure 2 of this AD for blade, P/N 109-8132-01-109. An owner/operator (pilot), holding at least a private pilot certificate, may perform the visual check required by this paragraph and must record compliance with paragraph (a) of this AD in the aircraft maintenance records in accordance with 14 CFR 43.11 and 91.417(a)(2)(v).

(b) Within 10 hours time-in-service (TIS), and thereafter at intervals not to exceed 10 hours TIS or before the next flight after any abnormal tail rotor vibration, inspect each blade for a crack using a 5-power or higher magnifying glass in accordance with the Compliance Instructions, Part II, of Agusta Bollettino Tecnico No. 109EP-14, Revision A, dated March 19, 2001 (ABT).

(c) Within 25 hours TIS and thereafter at intervals not to exceed 25 hours TIS, dye-penetrant inspect each blade for a crack in accordance with the Compliance Instructions, Part III, of the ABT.

(d) If a crack is found, replace the blade with an airworthy blade before further flight.

(e) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(f) Special flight permits are prohibited.

(g) The inspections shall be done in accordance with the Compliance Instructions, Parts II and III, of Agusta Alert Bollettino Tecnico No. 109EP-14, Revision A, dated March 19, 2001. This incorporation by reference was approved by the Director of the Federal Register in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the FAA, Office of the Regional Counsel, Southwest Region, 2601 Meacham Blvd., Room 663, Fort Worth, Texas; or at the Office of the Federal Register, 800 North Capitol Street, NW., suite 700, Washington, DC.

(h) This amendment becomes effective on September 13, 2001.

Note 3: The subject of this AD is addressed in Ente Nazionale per l'Aviazione Civile (Italy) AD No. 2001-094, dated March 22, 2001.

Issued in Fort Worth, Texas, on August 14, 2001.
Eric Bries,
Acting Manager, Rotorcraft Directorate, Aircraft Certification Service.

[FR Doc. 01-21219 Filed 8-28-01; 8:45 am]

BILLING CODE 4910-13-P